DEPARTMENT OF COMMERCE

National Oceanic and Atmospheric Administration

Agency Information Collection Activities; Submission to the Office of Management and Budget (OMB) for Review and Approval; Comment Request; Applications and Reporting Requirements for the Incidental Take of Marine Mammals by Specified Activities (Other Than Commercial Fishing Operations) Under the Marine Mammal Protection Act

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on June 22, 2018 (83 FR 29212) during a 60-day comment period. This notice allows for an additional 30 days for public comments.

Agency: National Oceanic & Atmospheric Administration.

Title: Applications and Reporting Requirements for the Incidental Take of Marine Mammals by Specified Activities (other than Commercial Fishing Operations) Under the Marine Mammal Protection Act.

OMB Control Number: 0648-0151.

Form Number(s): None.

Type of Request: Regular submission (Revision to an existing information collection).

Number of Respondents: 188.

Average Hours per Response: Incidental Harassment Authorization (IHA) Application: 281 hours; IHA Interim Report: 30 hours; IHA Draft Annual Report: 140 hours; IHA Final Annual Report: 28 hours; Letter of Authorization (LOA) Initial Application: 1200 hours; LOA Annual Application: 70 hours; LOA Draft Annual Report: 225 Hours; LOA Draft Final Report: 225 hours; LOA Final Annual Report: 70 hours; LOA Draft Comprehensive Report: 640 hours; LOA Comprehensive Final Report: 300 hours; Gulf of Mexico (GOM) Draft Annual Report: 140 hours; GOM Final Annual Report: 28 hours. Response times will vary for the public based upon the complexity of the requested action.

Total Annual Burden Hours: 25,973.

Needs and Uses: This request is for a revision of a currently approved information collection.

The Marine Mammal Protection Act of 1972 (MMPA; 16 U.S.C. 1361 et. seq.) prohibits the “take” of marine mammals unless otherwise authorized or exempted by law. Among the provisions that allow for lawful take of marine mammals, sections 101(a)(5)(A) and (D) of the MMPA direct the Secretary of Commerce to allow, upon request, the incidental, but not intentional, taking of small numbers of marine mammals by U.S. citizens who engage in a specified activity (other than commercial fishing), within a specified geographical region if, after notice and opportunity for public comment, we find that the taking will have a negligible impact on the affected species or stock(s) and will not have an immitigable adverse impact on the availability of the species or stock(s) for subsistence uses (where relevant). NMFS also must set forth the permissible methods of taking; other means of effecting the least practicable adverse impact on the species or stock and its habitat (mitigation); and requirements pertaining to the monitoring and reporting of such taking. NMFS Office of Protected Resources leads the process for the agency.

Issuance of an incidental take authorization (Authorization) under section 101(a)(5)(A) or 101(a)(5)(D) of the MMPA requires three sets of information collection: (1) A complete application for an Authorization, as set forth in our implementing regulations at 50 CFR 216.104, which provides the information necessary for us to make the necessary statutory determinations, including estimates of take and an assessment of impacts on the affected species and stocks; (2) information relating to required monitoring; and (3) information related to required reporting. These collections of information enable us to: (1) Evaluate the proposed activity's impact on marine mammals; (2) arrive at the appropriate determinations required by the MMPA and other applicable laws prior to issuing the authorization; and (3) monitor impacts of activities for which we have issued Authorizations to determine if our predictions regarding impacts on marine mammals remain valid.

On June 22, 2018, NMFS published a Federal Register Notice (83 FR 29212) notifying the public of a proposal to issue 5-year incidental take regulations that would allow for the take of marine mammals incidental to geophysical survey activities conducted by industry operators in Federal waters of the U.S. Gulf of Mexico (GOM). NMFS does not anticipate that the proposed regulations will substantially add to the burden to individual private applicants for incidental take authorizations. In fact, we expect individual applicant's information collection burdens will be substantially less than the typical applicant under the existing OMB Control Number. This is due to the fact that the application for these regulations (the first information collection burden noted above) was completed by the Bureau of Ocean Energy Management (BOEM) instead of individual applicants. The other difference we expect related to these proposed regulations is that there will be a larger number of applicants/respondents than accounted for in the existing OMB Control Number. The proposed rule forecasts that 95 to 151 geophysical surveys will take place annually on average over the five years of the proposed regulations in the GOM that would be subject to potential information collection requirements.

Affected Public: Not-for-profit institutions; state, local, or tribal governments; businesses or other for-profit organizations.

Frequency:

Respondent's Obligation: Mandatory.

Legal Authority: Marine Mammal Protection Act of 1972 (MMPA, 16 U.S.C. 1361 et. seq.).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0151.

Sheleen Dumas,
Department PRA Clearance Officer, Office of the Chief Information Officer, Commerce Department.

[FR Doc. 2020-21353 Filed 9-25-20; 8:45 am]

BILLING CODE 3510-22-P